DEPARTMENT OF ENERGY

Federal Energy Regulatory Commission

[Docket No. RP04-329-000]

Questar Southern Trails Pipeline Company; Notice of Tariff Filing

June 17, 2004.

Take notice that on June 14, 2004, Questar Southern Trails Pipeline Company (Southern Trails) tendered for filing as part its FERC Gas Tariff, Original Volume No. 1, the following tariff sheets, with an effective date of July 15, 2004:

Third Revised Sheet Nos. 1 and 30.

First Revised Sheet Nos. 12, 21, 35, 39, 40, 41, 59, 60, 61, 63, 71,82, 83, 87, 92 and 93.

Second Revised Sheet Nos. 65 and 72.

Original Sheet No. 114.

Sheet Nos. 115-118 reserved for future use.

Southern Trails states it is proposing to clarify specific aspects of its tariff language.

Southern Trails states that a copy of this filing has been served upon its customers and the Public Service Commissions of Utah, New Mexico, Arizona, and California.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E4-1405 Filed 6-23-04; 8:45 am]

BILLING CODE 6717-01-P